DEPARTMENT OF AGRICULTURE

Federal Crop Insurance Corporation

7 CFR Part 457

RIN 0563-AC87

Removal of Obsolete Regulations for Crop Insurance Provisions

AGENCY: Federal Crop Insurance Corporation, U.S. Department of Agriculture (USDA).

ACTION: Final rule.

SUMMARY: Risk Management Agency (RMA), on behalf of the Federal Crop Insurance Corporation (FCIC), is in the process of reviewing all regulations within its purview to reduce regulatory burdens and costs. Pursuant to this review, FCIC has identified obsolete, unnecessary, and outdated provisions in title 7 of the Code of Federal Regulation (CFR). FCIC is removing these provisions to streamline and clarify the dictates of title 7. The changes in this rule will reduce confusion for FCIC customers but otherwise the changes will have no impacts to insurance coverage for past or present FCIC customers.

DATES: This rule is effective August 27, 2025.

FOR FURTHER INFORMATION CONTACT: Sherrie Grimm; telephone: (202) 401-0062; email: Sherrie.Grimm@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. FCIC has undertaken such a review and is accordingly rescinding the following provisions from title 7.

Regulatory Certifications

Executive Orders

This document does not meet the criteria for a significant regulatory action as specified by Executive Order (E.O.) 12866. This action also has no federalism or tribal implications and will not impose substantial unreimbursed compliance costs on States, local governments, or Indian Tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

There are 7 obsolete crop insurance regulations within the Common Crop Insurance Regulations (7 CFR part 457). These obsolete crop insurance regulations have been replaced by alternate policies, approved under 7 U.S.C. 1508(h) of the Federal Crop Insurance Act, available on the RMA website. The existence of these obsolete regulations in the CFR burdens farmers and insurance personnel with rules that are no longer in effect. Specifically, the following regulations are removed:

• Texas citrus tree crop insurance provisions in 7 CFR 457.106;

• Sugarcane crop insurance provisions in 7 CFR 457.116;

• Macadamia tree crop insurance provisions in 7 CFR 457.130;

• Peanut crop insurance provisions in 7 CFR 457.134;

• Nursery crop insurance provisions in 7 CFR 457.162;

• Nursery peak inventory endorsement in 7 CFR 457.163; and

• Nursery rehabilitation endorsement in 7 CFR 457.164.

List of Subjects in 7 CFR Part 457

Acreage allotments, Crop insurance, Reporting and recordkeeping requirements.

For the reasons stated in the preamble, FCIC amends 7 CFR part 457 as follows:

PART 457—COMMON CROP INSURANCE REGULATIONS

1. The authority citation for part 457 continues to read as follows:

Authority: 7 U.S.C. 1506(1), 1506(o).

§ 457.106 [Removed and Reserved]

2. Remove and reserve § 457.106.

§ 457.116 [Removed and Reserved]

3. Remove and reserve § 457.116.

§ 457.130 [Removed and Reserved]

4. Remove and reserve § 457.130.

§ 457.134 [Removed and Reserved]

5. Remove and reserve § 457.134.

§ 457.162 [Removed and Reserved]

6. Remove and reserve § 457.162.

§ 457.163 [Removed and Reserved]

7. Remove and reserve § 457.163.

§ 457.164 [Removed and Reserved]

8. Remove and reserve § 457.164.

Kenneth Selzer,
Acting Manager, Federal Crop Insurance Corporation.

[FR Doc. 2025-16452 Filed 8-26-25; 8:45 am]

BILLING CODE 3410-08-P